DEPARTMENT OF TRANSPORTATION

Surface Transportation Board

[Finance Docket No. 34075]

Six County Association of Governments—Construction and Operation Exemption—Rail Line Between Levan and Salina, UT

AGENCY: Surface Transportation Board, DOT.

ACTION: Notice of Availability of Draft Environmental Impact Statement.

SUMMARY: On July 30, 2001, the Six County Association of Governments (SCAOG) filed a Petition for Exemption with the Surface Transportation Board (Board) pursuant to 49 U.S.C. 10502 for authority to construct and operate a new rail line between Juab (near Levan) and Salina, Utah. The project involves approximately 43 miles of new rail line and ancillary facilities. Because the construction and operation of this project has the potential to result in significant environmental impacts, the Board's Section of Environmental Analysis (SEA), in cooperation with the Department of Interior Bureau of Land Management, prepared a Draft Environmental Impact Statement (Draft EIS). The purpose of this Notice of Availability is to notify individuals and agencies interested in or affected by the proposed project of the availability of the Draft EIS for review and comment.

Implementation of the proposed project would restore rail service to the Sevier Valley, provide rail service to shippers, and reduce the number of trucks on area highways. The Draft EIS analyses the potential impacts of the proposed route, the “no-build” alternative, and another build alternative.

The Draft EIS addresses environmental issues and concerns identified during the scoping process. It also contains SEA's preliminary recommendations for environmental mitigation measures. The Draft EIS is being made available for public and agency review and comment. SEA will prepare a Final Environmental Impact Statement (Final EIS) that considers comments on the Draft EIS from the public and agencies. In reaching its decision in this case, the Board will take into account the Draft EIS, the Final EIS, and all environmental comments that are received.

DATES: Written comments on the Draft EIS, which was served on June 29, 2007 are due on August 22, 2007.

ADDRESS: Send an original and 10 copies of comments referring to STB Finance Docket No. 34075 to: Surface Transportation Board, Case Control Unit, 395 E Street, SW., Washington, DC 20423, Attention: Phillis Johnson-Ball, Section of Environmental Analysis.

FOR FURTHER INFORMATION CONTACT: Phillis Johnson-Ball, (202) 245-0304. Federal Information Relay Service for the hearing impaired: 1-800-877-8339.

The Web site for the Surface Transportation Board is http://www.stb.dot.gov.

Decided: June 29, 2007.
By the Board, Victoria Rutson, Chief, Section of Environmental Analysis.
Vernon A. Williams,
Secretary.

[FR Doc. E7-12521 Filed 6-28-07; 8:45 am]

BILLING CODE 4915-01-P